POSTAL SERVICE

Product Change—Priority Mail and First-Class Package Service Negotiated Service Agreement

AGENCY: Postal Service™.

ACTION: Notice.

SUMMARY: The Postal Service gives notice of filing a request with the Postal Regulatory Commission to add a domestic shipping services contract to the list of Negotiated Service Agreements in the Mail Classification Schedule's Competitive Products List.

DATES: Date of notice required under 39 U.S.C. 3642(d)(1): December 28, 2017.

FOR FURTHER INFORMATION CONTACT: Elizabeth A. Reed, 202-268-3179.

SUPPLEMENTARY INFORMATION: The United States Postal Service® hereby gives notice that, pursuant to 39 U.S.C. 3642 and 3632(b)(3), on December 22, 2017, it filed with the Postal Regulatory Commission a USPS Request to Add Priority Mail & First-Class Package Service Contract 69 to Competitive Product List. Documents are available at www.prc.gov, Docket Nos. MC2018-84, CP2018-126.

Elizabeth A. Reed,
Attorney, Corporate and Postal Business Law.

[FR Doc. 2017-28037 Filed 12-27-17; 8:45 am]

BILLING CODE 7710-12-P